DEPARTMENT OF COMMERCE

National Oceanic and Atmospheric Administration

[RTID 0648-XC066]

Western Pacific Fishery Management Council; Public Meetings

AGENCY: National Marine Fisheries Service (NMFS), National Oceanic and Atmospheric Administration (NOAA), Commerce.

ACTION: Notice of public meeting.

SUMMARY: The Western Pacific Fishery Management Council (Council) will hold its 144th Scientific and Statistical Committee (SSC), Pelagic and International Standing Committee, Fishery Data Collection and Research Committee (FDCRC), Executive and Budget Standing Committee, and 191st Council meetings to take actions on fishery management issues in the Western Pacific Region.

DATES: The meetings will be held between June 13 and June 23, 2022. For specific times and agendas, see SUPPLEMENTARY INFORMATION.

ADDRESSES: All meetings will be held in a hybrid format with in-person and remote participation (Webex) options available for the Council and advisory body members, and public attendance limited to web conference via Webex. Specific information on joining the meeting, connecting to the web conference and providing oral public comments will be posted on the Council website at www.wpcouncil.org. For assistance with the web conference connection, contact the Council office at (808) 522-8220. For all meetings, in-person attendance for Council and advisory body members will be hosted at the Council office, 1164 Bishop Street, Suite 1400, Honolulu, HI 96813.

FOR FURTHER INFORMATION CONTACT: Kitty M. Simonds, Executive Director, Western Pacific Fishery Management Council; phone: (808) 522-8220.

SUPPLEMENTARY INFORMATION: All times shown are in Hawaii Standard Time. The Pelagic and International Standing Committee meeting will be held between 1 p.m. and 3 p.m. on June 13, 2022. The 144th SSC meeting will be held between 11 a.m. and 5 p.m. on June 14-15, 2022, and between 11 a.m. and 1 p.m. on June 16, 2022. The FDCRC meeting will be held between 2 p.m. and 4 p.m. on June 16, 2022. The Executive and Budget Standing Committee meeting will be held between 1 p.m. and 3 p.m. on June 20, 2022. The 191st Council meeting will be held between 9 a.m. and 5 p.m. on June 21-22, 2022, and between 8 a.m. and 12 p.m. on June 23, 2022.

Please note that the evolving public health situation regarding COVID-19 may affect the conduct of the June Council and its associated meetings. At the time this notice was submitted for publication, the Council anticipated convening the meetings as a hybrid format for members and by web conference for public attendance. If public participation options will be modified, the Council will post notice on its website at www.wpcouncil.org by, to the extent practicable, 5 calendar days before each meeting.

Agenda items noted as “Final Action” refer to actions that may result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 191st Council meeting will be available at www.wpcouncil.org. Written public comments on final action items at the 191st Council meeting should be received at the Council office by 5 p.m. HST, June 17, 2022, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website. This meeting will be recorded (audio only) for the purposes of generating the minutes of the meeting.

Agenda for the Pelagic and International Standing Committee

Monday, June 13, 2022, 1 p.m. to 3 p.m.

1. 2023 US Territorial Bigeye Tuna Catch/Effort Limit & Allocation Specifications (Action Item)

2. Update on Endangered Species Act (ESA) Consultations

3. International Fisheries

A. Update on Western and Central Pacific Fisheries Commission (WCPFC) Matters

B. U.S. Permanent Advisory Committee to the WCPFC

4. Advisory Group Report and Recommendations

5. Other Business

6. Public Comment

7. Discussion and Recommendations

Agenda for the 144th SSC Meeting

Tuesday, June 14, 2022, 11 a.m. to 5 p.m.

1. Introductions

2. Approval of Draft Agenda and Assignment of Rapporteurs

3. Status of the 143rd SSC Meeting Recommendations

4. Pacific Islands Fisheries Science Center Director Report

5. Program Planning and Research

A. National Standard 2 Related Issues

1. Review of WPSAR Terms of Reference for Uku EFH

2. Review of Regional BSIA Framework

3. Revisiting BSIA and WPSAR Framework

B. CNMI Bottomfish Cluster Analysis

C. National SSC Meeting Preparations

D. Review of the Pacific Islands Regional Action Plan (PIRAP) to Implement the NOAA Fisheries Climate Science Strategy in 2022-24

E. Council Coordination Committee (CCC) Equity and Environmental Justice (EEJ) Update

F. National Standard-mandated Social Science Data Collection

G. Development of Potential University of Hawaii Fisheries Program

H. 2021 Annual Stock Assessment and Fishery Evaluation (SAFE) Report and Recommendations

1. Archipelagic & Pelagic Report Highlights

2. Archipelagic Report Recommendations

3. Pelagic Report Recommendations

I. Public Comment

J. SSC Discussion and Recommendations

6. Protected Species

A. ESA Section 7 Consultations

1. Consultation updates for the Hawaii deep-set and American Samoa longline fisheries

2. Review of the draft bottomfish fishery biological opinion

B. Impact of Observer Coverage Level on Estimated Take

C. Public Comment

Wednesday, June 15, 2022, 11 a.m. to 5 p.m.

6. Protected Species (continued)

D. ESA and Marine Mammal Protection Act Updates

1. National Updates (Serious Injury Determination Policy; Guidelines for Assessing Marine Mammal Stocks)

2. Regional Updates

E. False Killer Whale Interaction and Depredation Analysis

F. Public Comment

G. SSC Discussion and Recommendations

7. Pelagic and International Fisheries

A. CCC Subcommittee Report on Area-Based Management

B. Deep-Sea Mining Updates

C. Inter-American Tropical Tuna Commission (IATTC) Science Advisory Committee

D. Pacific Community (SPC) Pre-Assessment Workshop

E. Preparations for the WCPFC Science Committee

F. Public Comment

G. SSC Discussion and Recommendations

Thursday, June 16, 2022, 11 a.m. to 1 p.m.

8. Other Business

A. September SSC Meetings Dates

9. Summary of SSC Recommendations to the Council

Agenda for the FDCRC

Thursday, June 16, 2022, 2 p.m. to 4 p.m.

1. Welcome Remarks and Introductions

2. Technical Committee Data Collection Subpanel Meeting Report and Recommendations

3. FDCRC Strategic Plan 2022-26 Update

4. Status of Draft Data Sharing Agreements

5. Marine Recreational Information Program Regional Implementation Plan Update

6. Territorial Relationships with the SPC

7. Public Comment

8. Other Business

9. Discussions and Recommendations

Agenda for the Executive and Budget Standing Committee

Monday, June 20, 2022, 1 p.m. to 3 p.m.

1. Financial Matters

A. FY2023 President's Budget

2. Administrative Report

3. Council Coordination Committee

4. Regional Operating Agreement Update

5. Council Family Changes

6. Meetings and Workshops

7. Other Issues

8. Public Comment

9. Discussion and Recommendations

Agenda for the 191st Council Meeting

Tuesday, June 21, 2022, 9 a.m. to 5 p.m.

1. Welcome and Introductions

2. Approval of the 191st CM Agenda

3. Approval of the 190th CM Meeting Minutes

4. Executive Director's Report

5. Agency Reports

A. National Marine Fisheries Service

1. Pacific Islands Regional Office

2. Pacific Islands Fisheries Science Center

B. NOAA Office of General Counsel Pacific Islands Section

C. Enforcement

1. U.S. Coast Guard

2. NOAA Office of Law Enforcement

3. NOAA Office of General Counsel Enforcement Section

D. U.S. State Department

E. U.S. Fish and Wildlife Service

F. Public Comment

G. Council Discussion and Action

6. Mariana Archipelago

A. Guam

1. Department of Agriculture Report

2. Isla Informe

B. CNMI

1. Arongol Falú

2. Department of Lands and Natural Resources Report

3. CNMI Bottomfish Cluster Analysis

C. Advisory Group Report and Recommendations

1. Advisory Panel

2. Fishing Industry Advisory Committee

3. Scientific & Statistical Committee

D. Public Comment

E. Council Discussion and Action

7. American Samoa Archipelago

A. Motu Lipoti

B. Department of Marine & Wildlife Resources Report

C. Advisory Group Report and Recommendations

1. Advisory Panel

2. Fishing Industry Advisory Committee

3. Scientific & Statistical Committee

D. Public Comment

E. Council Discussion and Action

8. Protected Species

A. False Killer Whale Interaction and Depredation Analysis

B. ESA Consultations for the Hawaii Deep-set Longline Fishery, American Samoa Longline Fishery, and Bottomfish Fisheries

1. Consultation updates

2. Review of the draft bottomfish biological opinion

C. ESA and Marine Mammal Protection Act Updates

1. National Updates (Serious Injury Determination Policy; Guidelines for Assessing Marine Mammal Stocks)

2. Regional Updates

D. Advisory Group Report and Recommendations

1. Advisory Panel

2. Fishing Industry Advisory Committee

3. Scientific & Statistical Committee

E. Public Comment

F. Council Discussion and Action

Tuesday, June 21, 2022, 4:30 p.m. to 5 p.m.

Public Comment on Non-Agenda Items

Wednesday, June 22, 2022, 9 a.m. to 5 p.m.

9. Pelagic & International Fisheries

A. 2023 U.S. Territorial Bigeye Tuna Catch/Effort Limit & Allocation Specifications (Final Action)

B. CCC Subcommittee Report on Area-Based Management

C. International Fisheries

1. WCPFC U.S. Permanent Advisory Committee

2. International Seabed Authority Updates

3. 7th Our Ocean Conference

4. IATTC Science Advisory Committee

5. Pacific Islands Climate Change Planning and Stakeholder Engagement

D. Advisory Group Report and Recommendations

1. Advisory Panel

2. Fishing Industry Advisory Committee

3. Pelagic Plan Team

4. Scientific & Statistical Committee

E. Pelagic and International Standing Committee

F. Public Comment

G. Council Discussion and Action

10. Program Planning and Research

A. National Legislative Report

B. National Standard 2 Related Issues

1. Review of WPSAR Terms of Reference for Uku EFH

2. Review of Regional BSIA Framework

3. Revisiting BSIA and WPSAR Framework

C. Review of the PIRAP to Implement the NOAA Fisheries Climate Science Strategy in 2022-24

D. 2021 Annual SAFE Report and Recommendations

1. Archipelagic Report Overview and Highlights

2. Pelagic Report Overview and Highlights

E. Report on National Saltwater Recreational Fishing Summit

F. EEJ

1. Update on CCC Working Group on EEJ

2. Report on Council EEJ and Fisheries Management Workshop

3. Report on NMFS Draft EEJ Strategy

G. Regional Communications & Outreach Report

H. Advisory Group Report and Recommendations

1. Social Science Planning Committee

2. Federal Data Coordination and Research Committee

3. Advisory Panel

4. Fishing Industry Advisory Committee

5. Archipelagic Plan Team

6. Pelagic Plan Team

7. Scientific & Statistical Committee

I. Public Comment

J. Council Discussion and Action

Thursday, June 23, 2022, 8 a.m. to 12 p.m.

11. Hawai`i Archipelago & Pacific Remote Island Areas

A. Moku Pepa

B. DLNR/DAR Report (Legislation, Enforcement)

C. Green Turtle Management Update

D. Proposed NWHI Fishing Regulations (Initial Action)

E. Advisory Group Report and Recommendations

1. Advisory Panel

2. Fishing Industry Advisory Committee

3. Scientific & Statistical Committee

F. Public Comment

G. Council Discussion and Action

12. Administrative Matters

A. Financial Reports

B. Administrative Reports

C. Council Coordination Committee Meeting Report

D. Council Family Changes

E. Meetings and Workshops

F. Standing Committee Report

G. Public Comment

H. Council Discussion and Action

Non-emergency issues not contained in this agenda may come before the Council for discussion and formal Council action during its 191st meeting. However, Council action on regulatory issues will be restricted to those issues specifically listed in this document and any regulatory issue arising after publication of this document that requires emergency action under section 305(c) of the MSA, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: May 24, 2022.
Ngagne Jafnar Gueye,
Acting Deputy Director, Office of Sustainable Fisheries, National Marine Fisheries Service.

[FR Doc. 2022-11424 Filed 5-26-22; 8:45 am]

BILLING CODE 3510-22-P